DEPARTMENT OF TRANSPORTATION

Coast Guard

[USCG 2002-13233]

Towing Safety Advisory Committee

AGENCY: Coast Guard, DOT.

ACTION: Notice of meetings.

SUMMARY: The Towing Safety Advisory Committee (TSAC) and its working groups will meet as required to discuss various issues relating to shallow-draft inland and coastal waterway navigation and towing safety. All meetings will be open to the public.

DATES: TSAC will meet on Friday, September 13, 2002, from 8 a.m. to 3 p.m. The working groups will meet on Thursday, September 12, 2002, from 9 to 3:30 p.m. These meetings may close early if all business is finished. Written material and requests to make oral presentations should reach the Coast Guard on or before September 5, 2002. Requests to have a copy of your material distributed to each member of the Committee or working groups should reach the Coast Guard on or before September 5, 2002.

ADDRESSES: On Friday, TSAC will meet in room 2415, U.S. Coast Guard Headquarters, 2100 Second Street SW., Washington, DC. On Thursday, the working groups will first meet briefly in the cafeteria at the same address and then move to separate spaces designated at that time. Send written material and requests to make oral presentations to Mr. Gerald P. Miante, Commandant (G-MSO-1), U.S. Coast Guard Headquarters, 2100 Second Street SW., Washington, DC 20593-0001. This notice and the draft task statement are available on the Internet at http://dms.dot.gov.

FOR FURTHER INFORMATION CONTACT: Mr. Gerald P. Miante, Assistant Executive Director, or LCDR Lance Lindsay, telephone 202-267-0214, fax 202-267-4570, or e-mail at: gmiante@comdt.uscg.mil.

SUPPLEMENTARY INFORMATION: Notice of these meetings is given under the Federal Advisory Committee Act, 5 U.S.C. App. 2.

Agenda of Committee Meeting

The agenda tentatively includes the following:

(1) Status Report of the Crew Alertness Working Group;

(2) Status Report of the Towing Vessel Regulatory Review Working Group;

(3) Status Report Licensing Implementation Working Group;

(4) Status Report of the Maritime Security Working Group;

(5) Presentation on the Inland River Security Partnership;

(6) Presentation on Towboat Compliance and Prevention of SOLAS Detentions;

(7) Presentation on the Port Security Assessment Program; and

(8) Consideration of draft Task Statement 02-02 “Adequacy of Navigation Lights for Inland River Barge Tows.”

Procedural

All meetings are open to the public. Please note that the meetings may close early if all business is finished. Members of the public may make oral presentations during the meetings. If you would like to make an oral presentation at a meeting, please notify the Assistant Executive Director no later than September 5, 2002. Written material for distribution at a meeting should reach the Coast Guard no later than September 5, 2002. If you would like a copy of your material distributed to each member of the committee or subcommittee in advance of a meeting, please submit 17 copies to the Assistant Executive Director no later than September 2, 2002.

Information on Services for Individuals With Disabilities

For information on facilities or services for individuals with disabilities or to request special assistance at the meetings, contact the Assistant Executive Director as soon as possible.

Dated: August 26, 2002.
Howard L. Hime,
Acting Director of Standards, Marine Safety, Security & Environmental Protection.

[FR Doc. 02-22266 Filed 8-29-02; 8:45 am]

BILLING CODE 4910-15-P